DEPARTMENT OF COMMERCE

National Oceanic and Atmospheric Administration

[RTID 0648-XE778]

Atlantic Coastal Fisheries Cooperative Management Act Provision; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit renewal application from the Massachusetts Division of Marine Fisheries (MA DMF) contains all of the required information and warrants further consideration. The exempted fishing permit (EFP) would allow federally permitted fishing vessels to fish outside fishery regulations in support of exempted fishing activities proposed by the applicant. Regulations under the Magnuson-Stevens Fishery Conservation and Management Act and the Atlantic Coastal Fisheries Cooperative Management Act require publication of this notification to provide interested parties the opportunity to comment on applications for proposed EFPs.

DATES: Comments must be received on or before April 7, 2025.

ADDRESSES: You may submit written comments by email at nmfs.gar.efp@noaa.gov, subject line “MA DMF 2025 Ventless Trap EFP.”

All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, 978-281-9185.

SUPPLEMENTARY INFORMATION: The MA DMF submitted a complete application for an EFP to conduct commercial fishing activities that the regulations would otherwise restrict. This EFP would exempt the participating vessels from the following Federal regulations:

Table 1—Requested Exemptions
CFR citation | Regulation | Need for exemption
50 CFR 697.21(c)(1) and (2) | Gear specification requirements for Lobster Management Areas 1 and 2 | To allow for the use of traps without escape vents.
50 CFR 697.19(a) and (b) | Trap limit requirements for Areas 1 and 2 | To allow for trap limits to be exceeded.
50 CFR 697.19(i) | Trap tag requirements | To allow for alternatively tagged traps.
50 CFR 697.20(a)(2), 697.20(b)(2), 697.20(a)(3), and 697.20(b)(3) | Minimum and maximum carapace length requirements for Areas 1 and 2 | To allow sub-legal and over-sized lobsters to be landed for research purposes.
50 CFR 697.20(g)(1) and (3) | V-notch possession requirement for Areas 1 and 2 | To allow landing of female lobsters for research purposes.
50 CFR 697.20(d)(1) and (3) | Berried female possession requirements | To allow landing of egg-bearing female lobsters for research purposes.
50 CFR 697.20(h)(1) | Minimum carapace width requirements | To allow sub-legal Jonah crabs to be landed for research purposes.
50 CFR 697.20(h)(2)(i) and (ii) | Berried female possession requirement | To allow landing of egg-bearing female Jonah crabs for research purposes.

Table 2—Project Summary
Project title | 2025 MA DMF Ventless Trap Survey.
Project start | 05/26/2025.
Project end | 10/31/2025.
Project objectives | To provide fishery-independent data on lobster and Jonah crab growth and abundance within Massachusetts State waters.
Project location | Statistical Areas 514 and 538.
Number of vessels | Up to 6.
Number of trips | Up to 70.
Trip duration (days) | 1.
Total number of days | Up to 70.
Gear type(s) | Lobster traps.
Number of tows or sets | 16 per trip.
Duration of tows or sets | 3 day soak.

Project Narrative

The purpose of this survey is to provide fishery-independent data on lobster and Jonah crab growth and abundance within Massachusetts State waters of statistical areas 514 and 538. MA DMF funds this lobster abundance survey through their commercial and recreational lobster license fees. This survey has occurred annually since 2006. At least one MA DMF scientist would be on board for the sampling trips. MA DMF personnel would not be on board when traps are baited and deployed. Exemptions would not substantively change vessel operations. All catch during sampling trips would be retained temporarily to collect biological data. MA DMF staff may collect lobster and/or Jonah crab, including undersized, oversized, v-notched, and egg-bearing lobsters. Collected samples would be used for research projects on growth and maturity. No catch from the experimental traps would be landed for sale. All gear would be Atlantic Large Whale Take Reduction Plan compliant. Each trawl consists of six traps, with three vented and three ventless traps alternated along the string. Survey traps would be tagged as, “MA DMF Ventless Traps.”

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 18, 2025.
Karen H. Abrams,
Acting Director, Office of Sustainable Fisheries, National Marine Fisheries Service.

[FR Doc. 2025-04882 Filed 3-20-25; 8:45 am]

BILLING CODE 3510-22-P